DEPARTMENT OF COMMERCE

National Oceanic and Atmospheric Administration

Agency Information Collection Activities; Submission to the Office of Management and Budget (OMB) for Review and Approval; Comment Request; Office of Marine and Aviation Operations: Occupational Health, Safety, and Readiness Forms

AGENCY: National Oceanic & Atmospheric Administration (NOAA), Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before January 13, 2025.

ADDRESSES: Interested persons are invited to submit written comments to Adrienne Thomas, NOAA PRA Officer, at NOAA.PRA@noaa.gov. Please reference OMB Control Number 0648-0824 in the subject line of your comments. Do not submit Confidential Business Information or otherwise sensitive or protected information.

FOR FURTHER INFORMATION CONTACT: Requests for additional information or specific questions related to collection activities should be directed to OMAO Policy Program, NOAA, 1315 East West Highway, Silver Spring, MD 20910, MaryBeth Ryan, omao.policy@noaa.gov or by phone: 202-656-8310.

SUPPLEMENTARY INFORMATION:

I. Abstract

This is a request for a revision to an approved collection of information.

The National Oceanic and Atmospheric Administration's (NOAA) Office of Marine and Aviation Operations (OMAO) manages and operates NOAA's fleet of 15 research and survey ships and nine specialized environmental data-collecting aircraft. Comprised of civilians and officers of the NOAA Commissioned Officer Corps, OMAO also manages the NOAA Diving Program, NOAA Small Boat Program, and NOAA Uncrewed Systems Operations Center.

The research and survey ships operated, managed, and maintained by OMAO comprise the largest fleet of federal research ships in the nation. Ranging from large oceanographic research vessels capable of exploring the world's deepest ocean, to smaller ships responsible for charting the shallow bays and inlets of the United States, the fleet supports a wide range of marine activities including fisheries surveys, nautical charting, and ocean and climate studies.

NOAA aircraft operate throughout the world providing a wide range of capabilities including hurricane reconnaissance and research, marine mammal and fisheries assessment, and coastal mapping. NOAA aircraft carry scientists and specialized instrument packages to conduct research for NOAA's missions.

Housed within the NOAA Office of Marine and Aviation Operations and staffed by the U.S. Public Health Service (USPHS) Commissioned Corps officers, the Office of Health Services (OHS) is charged with directly supporting all personnel within the National Oceanic and Atmospheric Administration (NOAA).

NOAA medical officers work to maximize deployment readiness and minimize medically related disruptions to fleet, aircraft, and diving operations. OHS programs assess and promote mental and physical readiness within their operational medical discipline. Given the austere and geographically remote operational environments OHS supports, our officers are also responsible for preventing and containing disease in operational environments as subject matter experts in travel medicine. The forms contained in this collection will be used to make medical readiness recommendations for individuals and to key leadership in operational environments.

The NOAA Health Services Questionnaire NF 57-10-01 is being revised to include supportive questions to document previous sailing dates and clarifying medical information within NF 57-10-01 to ensure OMAO has a complete medical history for all personnel aboard NOAA vessels.

II. Method of Collection

The primary method of collection is electronic, although some hard copies may be mailed or faxed.

III. Data

OMB Control Number: 0648-0824.

Form Number(s): Medical: 57-10-01, 57-10-02, 57-10-05. Safety: 57-17-02, 57-17-09. Small Boat: 57-19-04.

Type of Review: Regular submission [revision to an approved information collection].

Affected Public: Individuals using OMAO platforms and facilities.

Estimated Number of Respondents: 1,515.

Estimated Time per Response: Response time varies based on the form. Forms may take as little as 5 minutes to complete or as long as 30 minutes.

Estimated Total Annual Burden Hours: 537 hours.

Estimated Total Annual Cost to Public: $0. Although some forms may be mailed or faxed, they account for only a handful of submissions annually.

Respondent's Obligation: Required to Obtain or Retain Benefits.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Departmental PRA Clearance Officer, Office of the Under Secretary for Economic Affairs, Commerce Department.

[FR Doc. 2024-25591 Filed 11-8-24; 8:45 am]

BILLING CODE 3510-12-P